COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List commodities and services to be furnished by nonprofit agencies employing persons who are blind or have other severe disabilities, and deletes from the Procurement List commodities previously furnished by such agencies.

EFFECTIVE DATE: January 14, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: On July 13, August 3, August 10, August 17, October 19 and October 26, 2001, the Committee for Purchase From People Who Are Blind or Severely Disabled published notices (66 FR 36741, 40671, 42197, 43180, 53201, 54193/94) of proposed additions to and deletions from the Procurement List:

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are added to the Procurement List:

Commodities

Shelf Assembly, Top

3920-00-000-8908

“Cusheeze” Pencil Grips, Foam Rubbe

7510-01-383-7680

Paper, Xerographic & Inkjet (Large Format)

7530-00-NIB-0483

7530-00-NIB-0598

7530-00-NIB-0599

7530-00-NIB-0600

7530-00-NIB-0601

7530-00-NIB-0602

7530-00-NIB-0603

7530-00-NIB-0604

7530-00-NIB-0605

7530-00-NIB-0606

7530-00-NIB-0607

7530-00-NIB-0608

7530-00-NIB-0609

7530-00-NIB-0610

7530-00-NIB-0611

7530-00-NIB-0612

7530-00-NIB-0613

7530-00-NIB-0614

7530-00-NIB-0615

7530-00-NIB-0616

7530-00-NIB-0617

7530-00-NIB-0618

7530-00-NIB-0619

7530-00-NIB-0620

7530-00-NIB-0621

7530-00-NIB-0622

7530-00-NIB-0623

7530-00-NIB-0624

7530-00-NIB-0625

7530-00-NIB-0626

7530-00-NIB-0627

7530-00-NIB-0628

7530-00-NIB-0629

7530-00-NIB-0630

7530-00-NIB-0631

7530-00-NIB-0632

7530-00-NIB-0633

7530-00-NIB-0634

7530-00-NIB-0635

7530-00-NIB-0636

7530-00-NIB-0637

7530-00-NIB-0638

7530-00-NIB-0639

7530-00-NIB-0640

7530-00-NIB-0641

7530-00-NIB-0642

Inkjet Media—Small Format

7530-00-NIB-0593

7530-00-NIB-0594

7530-00-NIB-0595

7530-00-NIB-0596

7530-00-NIB-0597

Services

File Maintenance, VA Medical Center, Northport, New York

Operation of Support Services, National Advocacy Center, Columbia, South Carolina

Photocopying, Environmental Protection Agency, Research Triangle Park, North Carolina

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodities and services.

3. The action will result in authorizing small entities to furnish the commodities and services to the Government.

4. There are no known regulatory alternatives which would accomplish the objectives of the Javits-Wagner-O'Day Act (41 U.S.C. 46-48c) in connection with the commodities and services deleted from the Procurement List.

After consideration of the relevant matter presented, the Committee has determined that the commodities listed below are no longer suitable for procurement by the Federal Government under 41 U.S.C. 46-48c and 41 CFR 51-2.4.

Accordingly, the following commodities are deleted from the Procurement List:

Commodities

Adhesive Tape, Surgical

6510-01-368-2659

6510-01-368-2660

6510-01-285-3896

6510-01-370-4099

6510-01-370-4100

6510-01-284-5110

6510-00-926-8882

6510-00-926-8883

6510-01-107-0223

6510-01-060-1639

Lancet, Finger Bleeding

6515-01-135-8497

6515-01-225-4757

Sheryl D. Kennerly,
Director, Information Management.

[FR Doc. 01-30920 Filed 12-13-01; 8:45 am]

BILLING CODE 6353-01-P